DEPARTMENT OF COMMERCE

Census Bureau

Proposed Information Collection; Comment Request; Census Coverage Measurement Person Follow-Up and Person Follow-Up Reinterview Operations

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 1, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Gia F. Donnalley, U.S. Census Bureau, 4600 Silver Hill Road, Room 4K067, Washington, DC 20233, 301-763-4370 (or via the Internet at Gia.F.Donnalley@census.gov).

SUPPLEMENTARY INFORMATION:

I. Abstract

The 2010 Census Coverage Measurement (CCM) Person Follow-up and Person Follow-up Reinterview Operations will be conducted in the U.S. (excluding remote Alaska) and in Puerto Rico in select CCM sampled areas. The primary sampling unit is a block cluster, which consists of one or more geographically contiguous census blocks. As in the past, the CCM operations and activities will be conducted independent of and not influence the 2010 Census operations.

CCM will be conducted to provide estimates of both net coverage error and coverage error components for omissions and erroneous enumerations for housing units and persons in housing units (see Definition of Terms) in order to gather information necessary to improve future censuses. The data collection and matching methodologies for previous coverage measurement programs were designed only to measure net coverage error, which measures the net difference between omissions and erroneous enumerations.

The 2010 CCM sample is a multi-phase probability sample of housing units comprising a number of distinct processes, ranging from forming block clusters, selecting the block clusters where the CCM survey will be conducted, to eventually selecting addresses for interviewing. Two samples will be selected to measure census coverage of housing units and household population: the population sample (P Sample) and the enumeration sample (E sample). These two samples have traditionally defined the samples for dual system estimation, a statistical technique for measuring net coverage error. The P Sample is a sample of housing units and persons obtained and independently enumerated from the census for a sample of block clusters, while the E Sample is a sample of census housing units and enumerations in the same block clusters as the P sample.

The independent list of housing units is obtained during the CCM Independent Listing Operation, the results of which will be matched to census housing units in the sample block clusters and surrounding blocks. After the CCM Independent Listing and matching operations have taken place, some cases with discrepancies between the CCM Independent Listing and the Census will be identified to receive the CCM Housing Unit Follow-up interview. The results of this interview will again be matched to the list of census housing units. The results of the housing unit matching operations will be used to determine which CCM and Census addresses will be eligible to go to the CCM Person Interview Operation. After data collected from the CCM Person Interview is matched to data collected by the Census, some cases with discrepancies between the CCM Person Interview and Census will be sent for another CCM interview called the CCM Person Follow-up Operation. A separate Federal Register Notice has already been issued for the CCM Independent Listing, CCM Housing Unit Follow-up, and CCM Person Interview operations.

For each case identified during matching, we will conduct a CCM Person Follow-up for selected persons in the household. During CCM Person Follow-up, interviewers will use a paper data collection instrument to obtain information about the selected persons.

The CCM Person Follow-up operation will collect the information needed to determine where each selected person should be counted on Census Day (according to Census residence rules). For example, interviewers will probe for additional addresses where the person may have stayed during the year and dates of stay for each address.

The CCM Person Follow-up Reinterview is a quality control operation that will be conducted on 15 percent of the Person Follow-up cases. The purpose of the Person Follow-up Reinterview is to confirm that the CCM Person Follow-up interviewer conducted a CCM Person Follow-up interview with a household member or a proxy respondent and to conduct the complete CCM Person Follow-up interview as needed if the original interview seems questionable.

II. Method of Collection

The CCM Person Follow-up and Person Follow-up Reinterview operations will be conducted using a paper questionnaire. The CCM Person Follow-up will be conducted through personal interviews while Person Follow-up Reinterview will be conducted through personal and telephone interviews. The CCM Person Follow-up and Person Follow-up Reinterview operations will occur starting January 28, 2011 through March 26, 2011.

Definition of Terms

Components of Coverage Error—The two components of census coverage error are census omissions (missed persons or housing units) and erroneous enumerations (persons or housing units enumerated in the census that should not have been). Examples of erroneous enumerations are persons or housing units enumerated in the census that should not have been enumerated at all, persons or housing units enumerated in an incorrect location, and persons or housing units enumerated more than once (duplicates).

Net Coverage Error—Net Coverage Error is a measure of the difference between census omissions and erroneous enumerations. A positive net error indicates an undercount, while a negative net error indicates an overcount.

For more information about the Census 2010 Coverage Measurement Program, please visit the following page of the Census Bureau's Web site: http://www.census.gov/cac/www/pdf/coverage-measurement-program.pdf.

III. Data

OMB Control Number: None.

Form Number: D-1301, D-1301(PR), D-1301.2, D-1301.2(PR).

Type of Review: Regular submission.

Affected Public: Individuals or Households.

Estimated Number of Respondents: 57,776 sample addresses for PFU and 8,667 sample addresses for PFU RI.

Estimated Time per Response: 15 minutes.

Estimated Total Annual Burden Hours: 16,611 hours.

Estimated Total Annual Cost: No cost to the respondents except for their time to respond.

Respondent's Obligation: Mandatory.

Legal Authority: Title 13, U.S. Code, Sections 141, 193, and 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 24, 2009.
Glenna Mickelson,
Management Analyst, Office of the Chief Information Officer.

[FR Doc. E9-30954 Filed 12-29-09; 8:45 am]

BILLING CODE 3510-07-P